DEPARTMENT OF THE INTERIOR

Bureau of Land Management

[LLCA942000 L57000000.BX0000 20XL5017AR; MO#4500140382]

Filing of Plats of Survey: California

AGENCY: Bureau of Land Management, Interior.

ACTION: Notice of official filing.

SUMMARY: The plats of survey of lands described in this notice are scheduled to be officially filed in the Bureau of Land Management (BLM), California State Office, Sacramento, California, 30 calendar days from the date of this publication. The surveys, which were executed at the request of the U. S. Fish and Wildlife Service, U. S. Forest Service and the Bureau of Land Management, are necessary for the management of these lands.

DATES: Unless there are protests to this action, the plats described in this notice will be filed on December 20, 2019.

ADDRESSES: You may submit written protests to the BLM California State Office, Cadastral Survey, 2800 Cottage Way, W-1623, Sacramento, CA 95825. A copy of the plats may be obtained from the BLM California State Office, Public Room, 2800 Cottage Way, W-1623, Sacramento, California 95825, upon required payment.

FOR FURTHER INFORMATION CONTACT: Jon Kehler, Chief, Branch of Cadastral Survey, Bureau of Land Management, California State Office, 2800 Cottage Way, W-1623, Sacramento, California 95825; 1-916-978-4323; jkehler@blm.gov.

Persons who use a telecommunications device for the deaf may call the Federal Relay Service (FRS) at 1-800-877-8339 to contact the above individual during normal business hours. The Service is available 24 hours a day, 7 days a week, to leave a message or question with the above individual. You will receive a reply during normal business hours.

SUPPLEMENTARY INFORMATION: The lands surveyed are:

Mount Diablo Meridian, California

T. 26 N, R. 6 E, dependent resurvey and subdivision of sections, for Group No. 1729, accepted August 28, 2019.

T. 9 S, R. 11 E, dependent resurvey, for Group No. 1757, accepted September 19, 2019.

T. 22 S, R. 23 E, dependent resurvey, subdivision of sections 2, 3, and 10, and metes-and-bounds survey, for Group No. 1745, accepted September 25, 2019.

T. 1 N, R. 1 W, dependent resurvey, survey, and subdivision of section 22, for Group No. 1769, accepted September 25, 2019.

T. 22 N, R. 13 E, dependent resurvey and subdivision of sections 8 and 17, for Group No. 1766, accepted September 25, 2019.

San Bernardino Meridian, California

T. 6 N, R. 4 W, supplemental plat of the East ½ of section 17, accepted September 25, 2019.

A person or party who wishes to protest one or more plats of survey must file a written notice of protest within 30 calendar days from the date of this publication at the address listed in the ADDRESSES section of this notice. Any notice of protest received after the due date will be untimely and will not be considered. A written statement of reasons in support of a protest, if not filed with the notice of protest, must be filed at the same address within 30 calendar days after the notice of protest is filed. If a protest against the survey is received prior to the date of official filing, the filing will be stayed pending consideration of the protest. A plat will not be officially filed until the day after all protests have been dismissed or otherwise resolved.

Before including your address, phone number, email address, or other personal identifying information in your notice of protest or statement of reasons, you should be aware that the documents you submit—including your personal identifying information—may be made publicly available at any time. While you can ask the BLM to withhold your personal identifying information from public review, we cannot guarantee that we will be able to do so.

Authority: 43 U.S.C., Chapter 3.

Jon L. Kehler,
Chief Cadastral Surveyor.

[FR Doc. 2019-25172 Filed 11-19-19; 8:45 am]

BILLING CODE 4310-40-P